DEPARTMENT OF DEFENSE

GENERAL SERVICES ADMINISTRATION

NATIONAL AERONAUTICS AND SPACE ADMINISTRATION

48 CFR Parts 1, 2, 4, 6, 13, 14, 15, 18, 19, 26, 33, 36, 42, 52, and 53

[FAC 2005-56; FAR Case 2010-015; Item I; Docket 2010-0015, Sequence 1]

RIN 9000-AL97

Federal Acquisition Regulation; Women-Owned Small Business (WOSB) Program

AGENCIES: Department of Defense (DoD), General Services Administration (GSA), and National Aeronautics and Space Administration (NASA).

ACTION: Final rule.

SUMMARY: DoD, GSA, and NASA have adopted as final, with changes, an interim rule amending the Federal Acquisition Regulation (FAR) to implement the Small Business Administration's regulations establishing the Women-Owned Small Business (WOSB) Program. This rule authorizes the restriction of competition for Federal contracts in certain industries to economically disadvantaged women-owned small business (EDWOSB) concerns or WOSB concerns eligible under the WOSB Program.

DATES: Effective Date: April 2, 2012.

FOR FURTHER INFORMATION CONTACT: Mr. Karlos Morgan, Procurement Analyst, at 202-501-2364, for clarification of content. For information pertaining to status or publication schedules, contact the Regulatory Secretariat at 202-501-4755. Please cite FAC 2005-56, FAR Case 2010-015.

SUPPLEMENTARY INFORMATION:

I. Background

DoD, GSA, and NASA published an interim rule in the Federal Register at 76 FR 18304 on April 1, 2011, to implement the Small Business Administration (SBA) regulations at 13 CFR part 127 and the procedures authorized under section 8(m) of the Small Business Act, Public Law 85-536, (15 U.S.C. 637(m)). Seven respondents submitted comments on the interim rule. All respondents expressed support for the WOSB Program; however, some revisions to the WOSB Program were recommended. This final rule incorporates changes made in response to public comments as well as minor technical corrections.

On December 21, 2000, Congress enacted the Small Business Reauthorization Act of 2000 (Act), (Pub. L. 106-554). Section 811 of Appendix I of the Act amended the Small Business Act to provide for a procurement program for women-owned small business concerns. Today, this program is known as the Women-Owned Small Business (WOSB) Program. The purpose of the WOSB Program is to ensure that women-owned small business concerns have an equal opportunity to participate in Federal contracting and to assist agencies in achieving their women-owned small business concern participation goals.

Under the WOSB Program, contracting officers may restrict competition for Federal contracts to small business concerns owned and controlled by women, under certain conditions, including but not limited to: (1) The procurement requirement is in an industry the SBA has determined to be underrepresented or substantially underrepresented by small business concerns owned and controlled by women; and (2) small business concerns owned and controlled by women participating in the WOSB Program have met the Program's eligibility requirements. The contracting officer must expect that two or more concerns will submit offers; contract award will be made at a fair and reasonable price; and the anticipated award price of the contract (including options) will not exceed $6.5 million in the case of a contract assigned a North American Industry Classification System (NAICS) code for manufacturing, or $4 million, in the case of all other contracts. These figures are higher than the statute and SBA regulation figures because they are adjusted for inflation (see FAR 1.109).

Section 3(n) of the Small Business Act (15 U.S.C. 632(n)) broadly defines a small business concern owned and controlled by women as one that is at least 51 percent owned by one or more women (or in the case of any publicly owned business, at least 51 percent of the stock is owned by one or more women) and whose management and daily business operations are controlled by one or more women. The Governmentwide goal for participation by small business concerns owned and controlled by women is 5 percent of the total value of all prime and subcontract awards (15 U.S.C. 644(g)). However, not all small business concerns owned and controlled by women are eligible to participate in the WOSB Program set forth in section 8(m) of the Small Business Act (15 U.S.C. 637(m)).

The SBA established detailed criteria at 13 CFR 127.200, 127.201, 127.202, and 127.203 for the women-owned small businesses authorized under the Act to participate in the Program: EDWOSB concerns and WOSB concerns eligible under the WOSB Program. In contrast with the broader definition for women-owned small businesses provided at 15 U.S.C. 632(n), both EDWOSB concerns and WOSB concerns eligible under the WOSB Program must be no less than 51 percent unconditionally and directly owned by one or more women who are United States citizens. (Other WOSB Program-specific eligibility criteria are set forth in the SBA's regulations and FAR subpart 19.15.) Thus, EDWOSB concerns and WOSB concerns eligible under the WOSB Program are actually subcategories of the larger group of women-owned small business concerns.

II. Discussion and Analysis

The Civilian Agency Acquisition Council and the Defense Acquisition Regulations Council (the Councils) reviewed the public comments in the development of the final rule. A discussion of the comments and the changes made to the rule as a result of those comments are provided as follows:

A. Changes From the Interim Rule

This final rule makes minor changes to the interim rule. The term “WOSB concern” is corrected to “WOSB concern eligible under the WOSB Program” in the FAR and in the Standard Forms. The relevant Paperwork Reduction Act burden control number is added to the list at FAR 1.106.

B. Analysis of Public Comments

1. The WOSB Program Should Be Modeled After Current SBA Programs

Comment: One respondent commented that the WOSB Program should be modeled after current SBA programs and require either a self-certification or an SBA Certification where eligibility appears on the firm's Central Contractor Registration (CCR) database and Online Representations and Certifications Application (ORCA) profiles.

Response: The WOSB Program adheres to the authorizing statute, section 811 of the Small Business Reauthorization Act of 2000, Public Law 106-554, and SBA regulations. The statute permits both self-certifications by the concern and third-party certification from an entity approved by the SBA. In the SBA final rule the supporting legislative history stated that there was no intent to create a certification program similar to the one for the section 8(a) Business Development Program.

2. The WOSB Program Repository Is Burdensome

Comment: One respondent commented that the WOSB Program Repository is burdensome and to have companies register in CCR, ORCA and then a third system seems extraneous.

Response: The WOSB Program Repository is SBA's solution to facilitate the statutory requirement to provide documents verifying program eligibility. SBA established the repository so that WOSB concerns eligible under the WOSB Program and EDWOSB concerns would not have to submit documents each time they are the apparent successful offeror. The WOSB Program repository minimizes paperwork burden and increases oversight and program monitoring capabilities.

3. The WOSB Program Requirement To Submit Additional (and Sensitive) Documents Could Create a Disincentive for the Use of the Program

Comment: One respondent commented that the WOSB Program's requirement to submit personal information and the additional reviews on behalf of the Government might create a disincentive to utilize the program and contracting authority to the fullest extent possible.

Response: The certification and additional documentation requirements are necessary to meet the statutory provisions and regulatory requirements of the WOSB Program, and to ensure that only WOSB concerns eligible under the WOSB Program receive the benefits of the WOSB Program.

4. Dollar Thresholds and Eligibility Requirements

Comment: One respondent commented that the WOSB Program's EDWOSB limits and eligibility requirements need to be re-evaluated as the $750,000.00 threshold may be too low.

Response: The $750,000 personal net worth requirement was established by the SBA. See the SBA regulation at 13 CFR 127.203 for limitations and for exclusions, e.g., primary personal residence, ownership interest in the EDWOSB concern, and retirement accounts.

5. Mentor-Protégé Program for WOSB Program

Comment: One respondent commented that the Councils should consider a Mentor-Protégé Program for the WOSB Program. Such a program already exists for the section 8(a) program. A Mentor-Protégé Program would allow women-owned small businesses to learn from larger, more successful businesses.

Response: Under the Small Business Jobs Act of 2010, Public Law 111-240, SBA was given the authority to establish mentor-protégé programs for small business concerns owned and controlled by service-disabled veterans, small business concerns owned and controlled by women, and HUBZone small business concerns modeled on the Mentor-Protégé Program of the SBA for small business concerns participating in programs under section 8(a) of the Small Business Act (15 U.S.C. 637(a)).

6. Order of Precedence Among the WOSB Program and Other Small Business and Socioeconomic Contracting Programs

Comment: One respondent commented that the interim rule implementing the WOSB Program did not revise FAR 19.203(c) to include WOSB concerns eligible under the WOSB Program in the list of programs to be considered before using a small business set-aside pursuant to FAR 19.502-2(b). The interim rule, therefore, creates some uncertainty as to whether a contracting officer must first consider an acquisition under section 8(a), HUBZone, or service-disabled veteran-owned small business programs before he or she can properly set-aside an acquisition for competition among WOSB concerns eligible under the WOSB Program or EDWOSB concerns.

Response: The interim rule did revise FAR 19.203(c) by adding WOSB programs.

7. “WOSB Concern” Is Used Interchangeably With “WOSB Concerns Eligible Under the WOSB Program”

Comment: One respondent commented that FAR subpart 19.15 appears to use the term “WOSB concern” interchangeably with “WOSB concerns eligible under the WOSB Program.” This is potentially confusing and may lead to a misrepresentation of eligibility by a non-eligible WOSB concern.

Response: Where applicable, for clarity and consistency, references to WOSB concern were revised to add “eligible under the WOSB Program.”

8. Clarification Is Needed To Differentiate Between Eligibility Under the WOSB Program and Eligibility as a WOSB in General

Comment: One respondent commented that the terms “Women-Owned Small Business Concern” and “Women-Owned Small Business (WOSB) Concern Eligible under the WOSB Program” (in accordance with 13 CFR 127) should be clarified. It was further suggested that the legislative and regulatory history for these definitions should be provided in the Background section of the Federal Register.

Response: The “Background” of this final rule provides a brief legislative and regulatory history for the definitions of “Women-Owned Small Business Concern” and “Women-Owned Small Business (WOSB) Concern Eligible under the WOSB Program.” A more expansive historical perspective can be found in the SBA's proposed rule published in the Federal Register at 75 FR 10030 on March 4, 2010, and final rule published in the Federal Register at 75 FR 62258 on October 7, 2010.

C. Other changes

Other changes include a minor revision to the Optional Form (OF) 347, Order for Supplies and Services; Standard Form (SF) 1447, Solicitation/Contract; and the SF 1449, Solicitation/Contract/Order for Commercial Items, to add to the business classification for Women-Owned Small Business (WOSB) “eligible under the WOSB Program.”

III. Executive Orders 12866 and 13563

Executive Orders (E.O.s) 12866 and 13563 direct agencies to assess all costs and benefits of available regulatory alternatives and, if regulation is necessary, to select regulatory approaches that maximize net benefits (including potential economic, environmental, public health and safety effects, distributive impacts, and equity). E.O. 13563 emphasizes the importance of quantifying both costs and benefits, of reducing costs, of harmonizing rules, and of promoting flexibility. This is a significant regulatory action and, therefore, was subject to review under section 6(b) of E.O. 12866, Regulatory Planning and Review, dated September 30, 1993. This rule is not a major rule under 5 U.S.C. 804.

IV. Regulatory Flexibility Act

DoD, GSA, and NASA have prepared a Final Regulatory Flexibility Analysis (FRFA) consistent with the Regulatory Flexibility Act, 5 U.S.C. 601, et seq. The FRFA is summarized as follows:

This rule finalizes an interim rule that revised the FAR to implement section 8(m) of the Small Business Act, 15 U.S.C. 637(m), to provide a tool for Federal agencies to ensure equal opportunity, and thereby increases Federal procurement opportunities to Women-Owned Small Business (WOSB) concerns.

The objective of the final rule is to assist Federal agencies in eliminating barriers to the participation by women-owned small business concerns in Federal contracting, thereby achieving the Federal Government's goal of awarding five percent of Federal contract dollars to women-owned small business concerns, as provided in the Federal Acquisition Streamlining Act of 1994.

There were no significant issues raised by the public in response to the Initial Regulatory Flexibility Analysis. No public comments were filed by the Chief Counsel for Advocacy of the Small Business Administration in response to this rule.

The Central Contractor Registration (CCR) database currently lists approximately 3,800 Small Disadvantaged Businesses (SDBs) owned and controlled by one or more women. While DoD, GSA, and NASA acknowledge that there may be other women-owned small business concerns in existence other than those listed in the CCR as being certified by SBA as SDBs, it is difficult to envision more than 6,000 women-owned small business concerns that could meet SBA's eligibility criteria and that are also ready, willing, and able to bid on Government contracts.

In addition, not all areas of Federal procurement have been designated as underrepresented or substantially underrepresented, and opportunities in some of the qualified industries may be limited. Consequently, many otherwise-qualified EDWOSB and WOSB concerns eligible under the WOSB Program may not find it advantageous to pursue contract opportunities under these procedures.

Contracting opportunities identified by Federal agencies as candidates to be set aside for WOSB concerns eligible under the WOSB Program (including EDWOSB concerns) will come from new contracting requirements and contracts currently performed by small and large business concerns. At this time, DoD, GSA, and NASA cannot accurately predict how the existing distribution of contracts by business type may change with this rule.

DoD, GSA, and NASA determined that this rule imposes new reporting and recordkeeping requirements. The certification process described in 13 CFR Subpart C, 127.300 to 127.302, is an information collection. The certification process requires a concern seeking to benefit from Federal contracting opportunities designated for WOSB concerns eligible under the WOSB Program or EDWOSB concerns to verify its status by providing documents to the WOSB Program Repository, submitting a certification to the WOSB Program Repository, and representing its status in an existing electronic contracting system (i.e., Online Representations and Certifications Application (ORCA)). The WOSB concern eligible under the WOSB Program or EDWOSB concern will have to represent in ORCA that it meets each eligibility requirement of the program. Specifically, the WOSB concern eligible under the WOSB Program or EDWOSB concern will be required to submit certain documents verifying eligibility at the time of certification in ORCA (and every year thereafter). These documents will be submitted to a document repository established by SBA. Further, the protest and eligibility examination procedures will require the submission of documents from those parties subject to a protest and eligibility examination. To reduce the burden on the WOSB concerns eligible under the WOSB Program or EDWOSB concerns, the same documents submitted at the time of certification will be used for the protests and eligibility examinations, except that for protests and eligibility examinations, SBA will also request copies of proposals submitted in response to a solicitation set-aside for WOSB concerns eligible under the WOSB Program or EDWOSB concerns and certain other documents and information to verify the status of an EDWOSB concern. Finally, this rule also requires the WOSB concerns eligible under the WOSB Program or EDWOSB concerns to retain copies of the documents submitted for a period of six (6) years. DoD, GSA, and NASA believe that any additional burden imposed by this recordkeeping requirement would be minimal since the firms would maintain the information in their general course of business.

This final rule minimizes the significant economic impact on small entities by allowing WOSB concerns eligible under the WOSB Program, including EDWOSB concerns, to be certified by a Federal agency, a State government, or a national certifying entity approved by the SBA. WOSB concerns eligible under the WOSB Program, including EDWOSB concerns, may also self-certify eligibility status to the contracting officer through submission of the required documentation in accordance with standards established by SBA. An alternative approach would have been to require EDWOSB concerns and WOSB concerns eligible under the WOSB Program to apply for formal certification. This alternative approach was ruled out as unnecessary, not required by statute, and too costly. DoD, GSA, and NASA believe that eligibility examinations and protest procedures incorporated into this final rule will minimize the likelihood of fraud and misrepresentation of status as a WOSB concern eligible under the WOSB Program or an EDWOSB concern. DoD, GSA, and NASA have decided that allowing self-certification and the option for firms to apply for certification from SBA-approved certifiers, when combined with random eligibility examinations and a formal protest procedure is a more viable approach than formal certification and greatly reduces the burden on small entities.

Interested parties may obtain a copy of the FRFA from the Regulatory Secretariat. The Regulatory Secretariat has submitted a copy of the FRFA to the Chief Counsel for Advocacy of the Small Business Administration.

V. Paperwork Reduction Act

The Paperwork Reduction Act (44 U.S.C. chapter 35) applies. The rule contains information collection requirements. The Office of Management and Budget (OMB) has cleared this information collection requirement under OMB Control Number 3245-0374, titled: “Certification for the Women-Owned Small Business Federal Contract Program.” SBA's request is discussed in detail in its proposed rule that published in the Federal Register at 75 FR 10030 on March 4, 2010, and the final rule that published in the Federal Register at 75 FR 62258 on October 7, 2010.

List of Subjects in 48 CFR Parts 1, 2, 4, 6, 13, 14, 15, 18, 19, 26, 33, 36, 42, 52, and 53

Government procurement.

Dated: February 21, 2012.
Laura Auletta,
Director, Office of Governmentwide Acquisition Policy, Office of Acquisition Policy, Office of Governmentwide Policy.

Interim Rule Adopted as Final With Changes

Accordingly, the interim rule amending 48 CFR parts 2, 4, 6, 13, 14, 15, 18, 19, 26, 33, 36, 42, 52, and 53, which was published in the Federal Register at 76 FR 18304 on April 1, 2011, is adopted as final with the following changes:

1. The authority citation for 48 CFR parts 1, 2, 4, 18, 19, 52, and 53 continues to read as follows:

Authority: 40 U.S.C. 121(c); 10 U.S.C. chapter 137; and 42 U.S.C. 2473(c).

PART 1—FEDERAL ACQUISITION REGULATIONS SYSTEM

1.106 [Amended]

2. Amend section 1.106, in the table following the introductory text, by adding in numerical sequence, FAR segment “52.219-29” and its corresponding OMB Control Number “3245-0374”, and FAR segment “52.219-30” and its corresponding OMB Control Number “3245-0374”.

PART 2—DEFINITIONS OF WORDS AND TERMS

3. Amend section 2.101, in paragraph (b)(2), in the definition “Women-Owned Small Business (WOSB) Program” by revising paragraph (3) to read as follows:

2.101 Definitions.

* * * * *

(b) * * *

(2) * * *

Women-Owned Small Business (WOSB) Program. * * *

(3) Women-owned small business (WOSB) concern eligible under the WOSB Program means a small business concern that is at least 51 percent directly and unconditionally owned by, and the management and daily business operations of which are controlled by, one or more women who are citizens of the United States (13 CFR part 127).

* * * * *

PART 4—ADMINISTRATIVE MATTERS

4.803 [Amended]

4. Amend section 4.803 by removing from the introductory text of paragraph (a)(42) “concerns or” and adding “concerns eligible under the WOSB Program or” in its place.

PART 18—EMERGENCY ACQUISITIONS

18.117 [Amended]

5. Amend section 18.117 by removing “concerns on” and adding “concerns eligible under the WOSB Program on” in its place.

PART 19—SMALL BUSINESS PROGRAMS

6. Amend section 19.201 by revising paragraph (d)(10) to read as follows:

19.201 General policy.

* * * * *

(d) * * *

(10) Make recommendations in accordance with agency procedures as to whether a particular acquisition should be awarded under subpart 19.5 as a small business set-aside, under subpart 19.8 as a section 8(a) award, under subpart 19.13 as a HUBZone set-aside, under subpart 19.14 as a service-disabled veteran-owned small business set-aside, or under subpart 19.15 as a set-aside for economically disadvantaged women-owned small business (EDWOSB) concerns or women-owned small business (WOSB) concerns eligible under the WOSB Program.

* * * * *

19.308 [Amended]

7. Amend section 19.308 by removing from paragraphs (h)(2)(i) and (h)(3)(iv) “concern, and” and adding “concern eligible under the WOSB Program, and” in its place.

8. Amend section 19.501 by revising the second sentence of paragraph (c) to read as follows:

19.501 General.

* * * * *

(c) * * * The contracting officer shall perform market research and document why a small business set-aside is inappropriate when an acquisition is not set aside for small business, unless an award is anticipated to a small business under the 8(a), HUBZone, SDVOSB, or WOSB Programs. * * *

* * * * *

9. Amend section 19.1500 by revising paragraph (b) and adding paragraph (c) to read as follows:

19.1500 General.

* * * * *

(b) The purpose of the WOSB Program is to ensure women-owned small business concerns have an equal opportunity to participate in Federal contracting and to assist agencies in achieving their women-owned small business participation goals (see 13 part CFR 127).

(c) An economically disadvantaged women-owned small business (EDWOSB) concern or WOSB concern eligible under the WOSB Program is a subcategory of “women-owned small business concern” as defined in 2.101.

10. Revise section 19.1503 to read as follows:

19.1503 Status.

(a) Status as an EDWOSB concern or WOSB concern eligible under the WOSB Program is determined in accordance with 13 CFR part 127.

(b) The contracting officer shall verify that the offeror—

(1) Is registered in Central Contractor Registration (CCR);

(2) Is self-certified in the Online Representations and Certifications Application (ORCA); and

(3) Has submitted documents verifying its eligibility at the time of initial offer to the WOSB Program Repository. The contract shall not be awarded until all required documents are received.

(c)(1) An EDWOSB concern or WOSB concern eligible under the WOSB Program that has been certified by a SBA approved third party certifier, (which includes SBA certification under the 8(a) Program), must provide the following eligibility requirement documents—

(i) The third-party certification;

(ii) SBA's WOSB Program Certification form (SBA Form 2413 for WOSB concerns eligible under the WOSB Program and SBA Form 2414 for EDWOSB concerns); and

(iii) The joint venture agreement, if applicable.

(2) An EDWOSB concern or WOSB concern eligible under the WOSB Program that has not been certified by an SBA approved third party certifier or by SBA under the 8(a) Program, must provide the following documents:

(i) The U.S. birth certificate, naturalization documentation, or unexpired U.S. passport for each woman owner.

(ii) The joint venture agreement, if applicable.

(iii) For limited liability companies, Articles of organization (also referred to as certificate of organization or articles of formation) and any amendments, and the operating agreement and any amendments.

(iv) For corporations, articles of incorporation and any amendments, by-laws and any amendments, all issued stock certificates, including the front and back copies, signed in accord with the by-laws, stock ledger, and voting agreements, if any.

(v) For partnerships, the partnership agreement and any amendments.

(vi) For sole proprietorships, corporations, limited liability companies and partnerships if applicable, the assumed/fictitious name certificate(s).

(vii) SBA's WOSB Program Certification form (SBA Form 2413 for WOSB concerns eligible under the WOSB Program and SBA Form 2414 for EDWOSB concerns).

(viii) For EDWOSB concerns, in addition to the above, the SBA Form 413, Personal Financial Statement, available to the public at http://www.sba.gov/tools/Forms/index.html, for each woman claiming economic disadvantage.

(d)(1) A contracting officer may accept a concern's self-certification as accurate for a specific procurement reserved for award under this subpart if—

(i) The apparent successful WOSB eligible under the WOSB Program or EDWOSB offeror provided the required documents;

(ii) There has been no protest or other credible information that calls into question the concern's eligibility as an EDWOSB concern or WOSB concern eligible under the WOSB Program; and

(iii) There has been no decision issued by SBA as a result of a current eligibility examination finding the concern did not qualify as an EDWOSB concern or WOSB concern eligible under the WOSB Program at the time it submitted its initial offer.

(2) The contracting officer shall file a status protest in accordance with 19.308 if—

(i) There is information that questions the eligibility of a concern; or

(ii) The concern fails to provide all of the required documents to verify its eligibility.

(e) If there is a decision issued by SBA as a result of a current eligibility examination finding that the concern did not qualify as an EDWOSB concern or WOSB concern eligible under the WOSB Program, the contracting officer may terminate the contract, and shall not exercise any option nor award further task or delivery orders. The contracting officer shall not count or include the award toward the small business accomplishments for an EDWOSB concern or WOSB concern eligible under the WOSB Program and must update FPDS from the date of award.

(f) A joint venture may be considered an EDWOSB concern or WOSB concern eligible under the WOSB Program if it meets the requirements of 13 CFR 127.506.

(g) An EDWOSB concern or WOSB concern eligible under the WOSB Program that is a non-manufacturer, as defined in 13 CFR 121.406(b), may submit an offer on a requirement set aside for an EDWOSB concern or a WOSB concern eligible under the WOSB Program with a NAICS code for supplies, if it meets the requirements under the non-manufacturer rule set forth in that regulation.

11. Amend section 19.1505 by revising paragraphs (a), (c)(1), (d), and (f) to read as follows:

19.1505 Set-aside procedures.

(a) The contracting officer—

(1) Shall comply with 19.203 before deciding to set aside an acquisition under the WOSB Program.

(2) May set aside acquisitions exceeding the micro-purchase threshold for competition restricted to EDWOSB concerns or WOSB concerns eligible under the WOSB Program in those NAICS codes in which SBA has determined that WOSB concerns eligible under the WOSB program are underrepresented or substantially underrepresented in Federal procurement, as specified on SBA's Web site at http://www.sba.gov/WOSB.

* * * * *

(c) * * *

(1) Two or more WOSB concerns eligible under the WOSB Program (including EDWOSB concerns), will submit offers;

* * * * *

(d) The contracting officer may make an award, if only one acceptable offer is received from a qualified EDWOSB concern or WOSB concern eligible under the WOSB Program.

* * * * *

(f) If no acceptable offers are received from an EDWOSB concern or WOSB concern eligible under the WOSB Program, the set-aside shall be withdrawn and the requirement, if still valid, must be considered for set aside in accordance with 19.203 and subpart 19.5.

* * * * *

PART 52—SOLICITATION PROVISIONS AND CONTRACT CLAUSES

12. Amend section 52.212-3 by revising the date of the provision and paragraphs (c)(6)(ii), (c)(7)(i), and (c)(7)(ii) to read as follows:

52.212-3 Offeror Representations and Certifications—Commercial Items.

* * * * *

OFFEROR REPRESENTATIONS AND CERTIFICATIONS—COMMERCIAL ITEMS APR 2012

* * * * *

(c) * * *

(6) * * *

(ii) It ☐ is, ☐ is not a joint venture that complies with the requirements of 13 CFR part 127, and the representation in paragraph (c)(6)(i) of this provision is accurate for each WOSB concern eligible under the WOSB Program participating in the joint venture. [The offeror shall enter the name or names of the WOSB concern eligible under the WOSB Program and other small businesses that are participating in the joint venture: ________.] Each WOSB concern eligible under the WOSB Program participating in the joint venture shall submit a separate signed copy of the WOSB representation.

(7) * * *

(i) It ☐ is, ☐ is not an EDWOSB concern, has provided all the required documents to the WOSB Repository, and no change in circumstances or adverse decisions have been issued that affects its eligibility; and

(ii) It ☐ is, ☐ is not a joint venture that complies with the requirements of 13 CFR part 127, and the representation in paragraph (c)(7)(i) of this provision is accurate for each EDWOSB concern participating in the joint venture. [The offeror shall enter the name or names of the EDWOSB concern and other small businesses that are participating in the joint venture: ________.] Each EDWOSB concern participating in the joint venture shall submit a separate signed copy of the EDWOSB representation.

* * * * *

13. Amend section 52.212-5 by revising the date of the clause and paragraphs (b)(24) and (b)(25) to read as follows:

52.212-5 Contract Terms and Conditions Required to Implement Statutes or Executive Orders—Commercial Items.

* * * * *

CONTRACT TERMS AND CONDITIONS REQUIRED TO IMPLEMENT STATUTES OR EXECUTIVE ORDERS—COMMERCIAL ITEMS APR 2012

* * * * *

(b) * * *

_ (24) 52.219-29, Notice of Set-Aside for Economically Disadvantaged Women-Owned Small Business (EDWOSB) Concerns (4/2/12) (15 U.S.C. 637(m)).

_ (25) 52.219-30, Notice of Set-Aside for Women-Owned Small Business (WOSB) Concerns Eligible Under the WOSB Program (4/2/12) (15 U.S.C. 637(m)).

* * * * *

14. Amend section 52.219-1 by revising the date of the provision and paragraphs (b)(4)(ii) and (b)(5)(ii) to read as follows:

52.219-1 Small Business Program Representations.

* * * * *

SMALL BUSINESS PROGRAM REPRESENTATIONS APR 2012

* * * * *

(b) * * *

(4) * * *

(ii) It ☐ is, ☐ is not a joint venture that complies with the requirements of 13 CFR part 127, and the representation in paragraph (b)(4)(i) of this provision is accurate for each WOSB concern eligible under the WOSB Program participating in the joint venture. [The offeror shall enter the name or names of the WOSB concern eligible under the WOSB Program and other small businesses that are participating in the joint venture: ________.] Each WOSB concern eligible under the WOSB Program participating in the joint venture shall submit a separate signed copy of the WOSB representation.

(5) * * *

(ii) It ☐ is, ☐ is not a joint venture that complies with the requirements of 13 CFR part 127, and the representation in paragraph (b)(5)(i) of this provision is accurate for each EDWOSB concern participating in the joint venture. [The offeror shall enter the name or names of the EDWOSB concern and other small businesses that are participating in the joint venture: ________.] Each EDWOSB concern participating in the joint venture shall submit a separate signed copy of the EDWOSB representation.

* * * * *

15. Amend section 52.219-29 by—

a. Revising the date of the clause;

b. Removing from paragraph (c)(3) “EDWOSB concern” and adding “apparent successful offeror” in its place; and

c. Removing from paragraph (f) “An EDWOSB that” and adding “An EDWOSB concern that” in its place.

The revised text reads as follows:

52.219-29 Notice of Set-Aside for Economically Disadvantaged Women-Owned Small Business Concerns.

* * * * *

NOTICE OF SET-ASIDE FOR ECONOMICALLY DISADVANTAGED WOMEN-OWNED SMALL BUSINESS CONCERNS APR 2012

* * * * *

16. Amend section 52.219-30 by—

a. Revising the date of the clause, paragraph (c), and the introductory text of paragraphs (d) and (e);

b. Removing from paragraph (e)(2) “concern;” and adding “concern eligible under the WOSB Program;” in its place;

c. Removing from paragraph (e)(3)(ii) “WOSB as” and adding “WOSB concern eligible under the WOSB Program as” in its place;

d. Revising paragraph (e)(5); and

e. Removing from paragraph (f) “WOSB that” and adding “WOSB concern eligible under the WOSB Program that” in its place.

The revised text reads as follows:

52.219-30 Notice of Set-Aside for Women-Owned Small Business Concerns Eligible Under the Women-Owned Small Business Program.

* * * * *

NOTICE OF SET-ASIDE FOR WOMEN-OWNED SMALL BUSINESS CONCERNS ELIGIBLE UNDER THE WOMEN-OWNED SMALL BUSINESS PROGRAM APR 2012

* * * * *

(c) General. (1) Offers are solicited only from WOSB concerns eligible under the WOSB Program. Offers received from concerns that are not WOSB concerns eligible under the WOSB program shall not be considered.

(2) Any award resulting from this solicitation will be made to a WOSB concern eligible under the WOSB Program.

(3) The Contracting Officer will ensure that the apparent successful offeror has provided the required documents to the WOSB Program Repository. The contract shall not be awarded until all required documents are received.

(d) Agreement. A WOSB concern eligible under the WOSB Program agrees that in the performance of the contract for— * * *

* * * * *

(e) Joint Venture. A joint venture may be considered a WOSB concern eligible under the WOSB Program if—

* * * * *

(5) The procuring activity executes the contract in the name of the WOSB concern eligible under the WOSB Program or joint venture.

* * * * *

PART 53—FORMS

53.212 [Amended]

17. Amend section 53.212 by removing “SF 1449, (Rev. 10/2010)” and adding “SF 1449 (Rev. 2/2012)” in its place.

53.213 [Amended]

18. Amend section 53.213 by removing from paragraph (a) “SF 1449, (Rev. 10/2010)” and adding “SF 1449 (Rev. 2/2012)” in its place; and by removing from paragraph (f) “SF 1449, (Rev. 10/2010)” and “OF 347, (Rev. 10/2010)” and adding “SF 1449 (Rev. 2/2012)” and “OF 347 (Rev. 2/2012)” in their place, respectively.

53.214 [Amended]

19. Amend section 53.214 by removing from paragraph (d) “SF 1447 (Rev. 11/2010)” and adding “SF 1447 (Rev. 2/2012)” in its place.

53.236-1 [Amended]

20. Amend section 53.236-1 by removing from paragraph (e) “OF 347 (Rev. 10/2010)” and adding “OF 347 (Rev. 2/2012)” in its place.

21. Revise section 53.301-1447 to read as follows:

53.301-1447 Solicitation/Contract

BILLING CODE 6820-EP-P

22. Revise section 53.301-1449 to read as follows:

53.301-1449 Solicitation/Contract/Order for Commercial Items.

23. Revise section 53.302-347 to read as follows:

53.302-347 Order for Supplies or Services.

[FR Doc. 2012-4475 Filed 3-1-12; 8:45 am]

BILLING CODE 6820-C